DEPARTMENT OF THE INTERIOR

National Park Service

60-Day Notice of Intention To Request Clearance of Collection Information; Opportunity for Public Comment

AGENCY: The Department of the Interior, National Park Service.

ACTION: Notice of request for comments.

SUMMARY: Under provisions of the Paperwork Reduction Act of 1995 and 5 CFR Part 1320, Reporting and Record Keeping Requirements, the National Park Service (NPS) invites public comments on an extension of a currently approved collection of information (OMB #1024-0231).

DATES: Public comments will be accepted on or before April 16, 2007.

ADDRESSES: Send comments to Jo A. Pendry, Concession Program Manager, National Park Service, 1849 C Street, NW., (2410), Washington, DC 20240; e-mail: jo_pendry@nps.gov; All responses to this notice will be summarized and included in the request for the Office of Management and Budget (OMB) approval. All comments will become a matter of public record.

FOR FURTHER INFORMATION CONTACT: Jo A. Pendry, Concession Program Manager, National Park Service, 1849 C St., NW., (2410), Washington, DC 20240. Phone: 202-513-7144; Fax: 202-371-2090.

SUPPLEMENTARY INFORMATION:

Title: Concession Contract—36 CFR 51.

Form Number(s): None.

OMB Control Number: 1024-0231.

Expiration Date of Approval: April 30, 2007.

Type of Request: Extension of a currently approved information collection.

Description of Need: The information is being collected to meet the requirements of Sections 403(7) and (8) of the NPS Concessions Management Improvement Act of 1998 (the Act), concerning the granting of a preferential right to renew a concession contract, Section 405 of the Act, regarding the construction of capital improvements by concessioners, and Section 414 of the Act, regarding recordkeeping requirements of concessioners. The information will be used by the agency in considering appeals concerning preferred offeror determinations, agency review and approval of construction projects and determinations with regard to the leasehold surrender interest value of such projects, and when necessary, agency review of a concessioner's books and records related to its activities under a concession contract. This program will also measure performance in meeting goals as required by the 1995 Government Performance and Results Act.

Comments are invited on: (1) The practical utility of the information being gathered; (2) the accuracy of the agency's burden hour estimate; (3) ways to enhance the quality, utility and clarity of the information to be collected; and (4) ways to minimize the burden to respondents, including use of automated information collection techniques or other forms of information technology. Before including your address, phone number, e-mail address, or other personal identifying information in your comment, you should be aware that your entire comment—including your personal identifying information—may be made publicly available at any time. While you can ask in your comment to withhold your personal identifying information from public review, we cannot guarantee that we will be able to do so.

Frequency of collection: Once.

Description of Respondents: NPS concessioners, and, in the case of appeals of preferred offeror determinations, offerors in response to concession prospectuses.

Total Annual Responses: 758.

Estimated Total Burden: 8 hours per response.

Total Annual Burden Hours: 3,276.

Dated: January 22, 2007.
Leonard E. Stowe,
NPS, Information Collection Clearance Officer.

[FR Doc. 07-657 Filed 2-13-07; 8:45 am]

BILLING CODE 4312-53-M